DEPARTMENT OF LABOR

Employment and Training Administration

[TA-W-59,118]

Thomson, Inc., Circleville, OH; Notice of Termination of Investigation

On October 27, 2006, the U.S. Court of International Trade (USCIT) granted the Department of Labor's consent motion for voluntary remand in Former Employees of Thomson, Inc. v. United States, Court No. 06-0266.

On March 24, 2006, three workers filed a petition for Trade Adjustment Assistance (TAA) and Alternative Trade Adjustment Assistance (ATAA) on behalf of workers and former workers of Thomson, Inc., Circleville, Ohio. The petition stated that the subject workers' task was “decommission facility,” that the facility closed on June 25, 2004, that the subject facility was previously certified (TA-W-52,274; expired), and that the “remaining employees should be considered for benefits.”

On May 10, 2006, the Department of Labor (Department) issued a negative determination regarding the subject worker group's eligibility to apply for TAA and ATAA, stating that the workers do not produce an article within the meaning of the Trade Act of 1974. The Department's Notice of determination was published in the Federal Register on May 24, 2006 (71 FR 29984).

In a letter dated May 24, 2006, three workers requested administrative reconsideration by the Department. The workers implied that because the petitioning worker group is part of the group certified under TA-W-52,274 and remained working at the subject facility after production ceased and beyond the certification period for TA-W-52,274 (August 7, 2005), they should be considered eligible to apply for TAA and ATAA.

By letter dated June 19, 2006, the Department dismissed the workers' request for reconsideration. The Department's Notice of dismissal was issued in June 20, 2006 and published in the Federal Register on July 6, 2006 (71 FR 38425).

In a letter dated August 1, 2006, the workers requested judicial review. In the complaint, the workers stated that the subject firm ceased operations in April 2004, that they were employed past April 2004 to “perform mandated requirements under the Cessation of Regulations Operations,” and “our jobs were lost to foreign competition the same as the other employees of Thomson, Inc. in Circleville, Ohio.” In response to the complaint, the Department filed an administrative record.

The Department subsequently moved for a voluntary remand, so that the Department could conduct a further review and make a redetermination of eligibility. On October 27, 2006, the Department's motion was granted.

During the initial investigation for this petition, the Department was informed by a company official that the subject workers were employed in order for the company to satisfy a State-mandated plant closure process. This process required the company to submit a “Cessation of Regulated Operations” (CRO) plan that addressed the removal of all hazardous materials. The State-approved CRO plan required an 18-month implementation schedule. The subject facility ceased production in April 2004 and entered the CRO phase in June 2004.

After careful review during the remand investigation, the Department determines that the workers who continued their employment with the subject firm to execute the CRO plan and complete shutdown functions are part of the worker group covered by TA-W-52,274. The Department's determination is based on the causal nexus between the subject facility's closure and the workers' separations.

On March 8, 2005, the Department issued a certification of eligibility to apply for ATAA under petition TA-W-52,274. The Department's Notice was published in the Federal Register on April 1, 2005 (70 FR 16851).

On January 25, 2007, the Department amended the TAA/ATAA certification of TA-W-52,274 to cover workers of the subject firm separated from employment on or after June 27, 2002 through December 31, 2006.

Since the subject workers are covered by TA-W-52-274, further investigation in this case would serve no purpose and the investigation has been terminated.

Conclusion

After careful review of the findings of the remand investigation, I am terminating the investigation of the petition for worker adjustment assistance filed on behalf of workers and former workers of Thomson, Inc., Circleville, Ohio.

Signed at Washington, DC this 25th day of January 2007.
Elliott S. Kushner,
Certifying Officer, Division of Trade Adjustment Assistance.

[FR Doc. E7-1957 Filed 2-6-07; 8:45 am]

BILLING CODE 4510-FN-P